DEPARTMENT OF TRANSPORTATION

Federal Motor Carrier Safety Administration

[Docket No. FMCSA-2025-0125]

Hours of Service of Drivers: Application for Exemption; National Propane Gas Association

AGENCY: Federal Motor Carrier Safety Administration (FMCSA), Department of Transportation (DOT).

ACTION: Notice of final disposition; denial of application for exemption.

SUMMARY: FMCSA announces its decision to deny the National Propane Gas Association's (NPGA) application for an exemption from various hours-of-service (HOS) requirements between December 15 and March 15 each year. FMCSA analyzed the application and public comments and determined that the exemption would not achieve a level of safety that is equivalent to, or greater than, the level that would be achieved absent such exemption.

FOR FURTHER INFORMATION CONTACT: Mr. Richard Clemente, FMCSA Driver and Carrier Operations Division; Office of Carrier, Driver and Vehicle Safety Standards; 771-216-2436 or richard.clemente@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2025-0125/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 395.3(a)(2) and (3), a property-carrying commercial motor vehicle (CMV) driver may drive a total of 11 hours during a period of 14 consecutive hours after coming on duty following 10 consecutive hours off duty. Under 49 CFR 395.3(b)(1) and (2), no motor carrier shall permit or require a driver of a property-carrying CMV to drive, nor shall any driver drive a property-carrying CMV, regardless of the number of motor carriers using the driver's services, for any period after having been on duty 60 hours in any period of 7 consecutive days, or having been on duty 70 hours in any period of 8 consecutive days. Additionally, under 49 CFR 395.3(c)(1) or (2), any period of 7 or 8 consecutive days may end with the beginning of an off-duty period of 34 or more consecutive hours.

Applicant's Request

NPGA's application for exemption was described in detail in a Federal Register notice on July 1, 2025, [90 FR 28854] and will not be repeated as the facts have not changed.

IV. Public Comments

The Agency received 31 unique comments.¹ Of the 31 comments, 22 comments supported granting the exemption and eight opposed the exemption. One commenter requested an extension of the comment filing period, which FMCSA granted by extending the deadline until August 15, 2025 [90 FR 35568]. Commenters that opposed the exemption included Advocates for Highway and Auto Safety, the Commercial Vehicle Safety Alliance (CVSA), National Tank Truck Carriers (NTTC), the Owner-Operator Independent Driver's Association (OOIDA), the North Carolina Department of Environmental Quality (North Carolina), the Massachusetts Department of Energy Resources (Massachusetts), the Maine Governor's Energy Office (in coordination with the Maine Emergency Management Agency and the Maine Department of Public Safety) (Maine), and AWM Associates. Themes of opposing comments included that the exemption is unnecessary, that the request is overly broad, and that there is an existing process for waivers of HOS requirements during emergency declarations. Advocates for Highway and Auto Safety said, “Permitting an exemption for any industry or group of drivers that may face inclement weather during the winter months is a needless weakening of the HOS regulations as there is an emergency declaration process in place to consider such waivers when the conditions actually occur.”

¹ The regulatory docket reflect 34 comments. However, three comments were duplicate filings submitted by EDP, AWM Associates, and the Massachusetts Department of Energy Resources.

CVSA commented that the exemption is unnecessary and does not provide an explanation for how an equivalent level of safety will be maintained if implemented. OOIDA recognized NPGA's work as important but said, “we do not feel overly broad relief from HOS regulations is warranted for these types of operations.” Maine expressed concern that the exemption would “usurp [ ] local control over actions to address local energy emergencies. . . .” North Carolina noted that liquid fuels are hazardous and explosive and commented that the State has seen significant crashes involving liquid fuels. Massachusetts stated concern with giving NPGA members “carte blanche” authority for three months every year, the lack of data to support the need for the exemption, and the risks to public safety.

NTTC stated that its members are “unwilling to accept the legal and insurance risks” of using an HOS exemption and that “NTTC opposes blanket exemptions of certain fuel commodities over others.” NTTC concluded that granting HOS exemptions “potentially undermines our industry's work and message of prioritizing highway safety.”

Propane transporters submitted comments supporting the exemption. Jeff Mortenson said, “Deliveries often surge due to increased demand and unpredictable weather conditions.” Patrick Temples added, “As a propane marketer serving rural and weather-dependent communities, flexibility in hours of service is critical. This waiver, which we support, would help us better plan deliveries during peak demand periods, especially in extreme cold, and avoid disruptions that put customer safety at risk.” C Three Logistics LLC said, “Due to the crossing of state lines in most cases the single state waivers are not useful and do not give the drivers the ability to deliver needed heating fuel.”

V. FMCSA Decision

FMCSA has evaluated NPGA's application and the public comments and denies the exemption. As noted by commenters, the Agency has an existing process to issue emergency declarations and HOS waivers in response to, and even in advance of, severe weather scenarios and other emergencies.

On April 19, 2023, the Agency denied a similar exemption request from NPGA, finding that NPGA failed to provide both an analysis of the safety impacts of the requested exemption and countermeasures to ensure that the exemption would achieve the requisite level of safety [88 FR 24259]. The current application also did not provide an analysis of the safety impacts of the requested exemption. The only safety countermeasures NPGA describes are an online Fatigue and Wellness Awareness Course and a statement that drivers would abide by all other Federal regulations when not responding to an emergency. Given the hazardous nature of the material being transported and breadth of the exemption requested, FMCSA cannot determine that the exemption would likely achieve a level of safety that is equivalent to, or greater than, the level that would be achieved absent such exemption.

For the above reasons, NPGA's exemption application is denied.

Derek Barrs,
Administrator.

[FR Doc. 2025-21749 Filed 12-1-25; 8:45 am]

BILLING CODE 4910-EX-P